DEPARTMENT OF DEFENSE

GENERAL SERVICES ADMINISTRATION

NATIONAL AERONAUTICS AND SPACE ADMINISTRATION

48 CFR Part 2

[FAC 2023-02; Item III; Docket No. FAR-2023-0052; Sequence No.1]

Federal Acquisition Regulation; Technical Amendments

Correction

In rule document 2023-02427, appearing on page 9739, in the issue of Tuesday, February 14, 2023, make the following correction:

On page 9739, in the first column, in the DATES section, “February 14, 2023” should read “March 16, 2023”.

[FR Doc. C1-2023-02427 Filed 2-15-23; 8:45 am]

BILLING CODE 0099-10-P